DEPARTMENT OF HOUSING AND URBAN DEVELOPMENT

[Docket No. FR-7092-N 27; OMB Control No.: 2502-0608]

30-Day Notice of Proposed Information Collection: Project Rental Assistance Program of Section 811 Supportive Housing for Persons With Disabilities

AGENCY: Office of Policy Development and Research, Chief Data Officer, HUD.

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: October 2, 2025.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: Anna Guido, telephone (202) 402-5535. This is not a toll-free number. HUD welcomes and is prepared to receive calls om individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A. The Federal Register notice that solicited public comment on the information collection for a period of 60 days was published on September 23, 2024 at 89 FR 77537.

A. Overview of Information Collection

Title of Information Collection: Project Rental Assistance Program of Section 811 Supportive Housing for Persons with Disabilities.

OMB Approval Number: 2502-0608.

Type of Request: Reinstatement with changes.

Form Number: HUD Form-92239-PRA, SF-LLL, HUD Form-2880, SF-424, HUD Form 92243-PRA, HUD Form-93205-PRA, Quarterly Reports, Annual Reports, HUD Form-92236-PRA-811, HUD Form-92238-PRA, HUD Form-92235-PRA, HUD Form-92237-PRA, HUD Form-92240-PRA, HUD Form-92241-PRA.

Description of the need for the information and proposed use: The collection of this information is necessary to the Department to assist HUD in determining applicant eligibility and capacity to award and administer the HUD PRA funds within statutory and program criteria. A thorough evaluation of an applicant's submission is necessary to protect the Government's financial interest.

Information collection | Number of respondents | Frequency of response | Responses per annum | Burden hour per response | Annual burden hours | Hourly cost per response | Annual cost
HUD-92235—Part I of the Rental Assistance Contract (PRA) | 150 | 1 | 150 | 1 | 150 | 43.28 | 6,492
HUD-92237—Part II of the Rental Assistance Contract (PRA) | 150 | 1 | 150 | 1 | 150 | 43.28 | 6,492
HUD-92238-PRA, Use Agreement | 150 | 1 | 150 | 2 | 300 | 43.28 | 12,984
HUD-92239—Grant Application Detailed Budget | 100 | 4 | 400 | 1 | 400 | 43.28 | 17,312
HUD-92240-PRA, Agreement to Enter Into Rental Assistance contract | 150 | 1 | 150 | 1 | 150 | 43.28 | 6,492
HUD-93205-811 PRA Cooperative Agreement | 50 | 1 | 50 | 1 | 50 | 43.28 | 2,164
Form SFLLL—Disclosure of Lobbying Activities | 26 | 1 | 26 | 0 | 0 | 0 | 0
Form HUD 2880 Applicant/Recipient Disclosure/Update Report | 26 | 1 | 26 | 0 | 0 | 0 | 0
Form SF424—Application for Federal Assistance | 26 | 1 | 26 | 0 | 0 | 0 | 0
Form HUD 92243—PRA-Affirmative Fair Housing Marketing Plan (AFHMP) | 26 | 1 | 26 | 1 | 26 | 43.28 | 1,125
Form HUD-92236-PRA-811 Project Rental Assistance Lease Supportive Housing for Persons with Disabilities | 1,250 | 1 | 1,250 | 0 | 0 | 0 | 0
Totals | 2,104 | 14 | 2,404 | 8 | 1,226 | 43.28 | 53,061

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

(Authority: Section 2 of the Paperwork Reduction Act of 1995, 44 U.S.C. 3507.)

Anna Guido,
Department PRA Compliance Officer, Office of Policy Development and Research, Chief Data Officer.

[FR Doc. 2025-16765 Filed 8-29-25; 8:45 am]

BILLING CODE 4210-67-P